DEPARTMENT OF TRANSPORTATION

Federal Railroad Administration

[Docket No. FRA-2017-0002-N-25]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified below.

DATES: Interested persons are invited to submit comments on or before February 9, 2018.

ADDRESSES: Submit written comments on the ICR activities by mail to either: Mr. Robert Brogan, Information Collection Clearance Officer, Office of Railroad Safety, Regulatory Analysis Division, RRS-21, Federal Railroad Administration, 1200 New Jersey Avenue SE., Mail Stop 25, Washington, DC 20590; or Ms. Kim Toone, Information Collection Clearance Officer, Office of Information Technology, RAD-20, Federal Railroad Administration, 1200 New Jersey Avenue SE., Mail Stop 35, Washington, DC 20590. Commenters requesting FRA to acknowledge receipt of their respective comments must include a self-addressed stamped postcard stating, “Comments on OMB Control Number 2130-0500,” and should also include the title of the ICR. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (telephone: (202) 493-6292) or Ms. Kim Toone, Information Collection Clearance Officer, Office of Information Technology, RAD-20, Federal Railroad Administration, 1200 New Jersey Avenue SE., Mail Stop 35, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8-12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology See 44 U.S.C. 3506(c)(2)(A); 5 CFR 1320.8(d)(1).

FRA believes that soliciting public comment will promote its efforts to reduce the administrative and paperwork burdens associated with the collection of information that Federal regulations mandate. In summary, FRA reasons that comments received will advance three objectives: (1) Reduce reporting burdens; (2) ensure that it organizes information collection requirements in a “user-friendly” format to improve the use of such information; and (3) accurately assess the resources expended to retrieve and produce information requested. See 44 U.S.C. 3501.

The summaries below describe the ICRs that FRA will submit for OMB clearance as the PRA requires:

Title: Accident/Incident Reporting and Recordkeeping.

OMB Control Number: 2130-0500.

Abstract: The collection of information is due to the railroad accident reporting regulations in 49 CFR part 225 that generally require railroads to submit monthly reports summarizing collisions, derailments, and certain other accidents/incidents involving damages above a periodically revised dollar threshold, as well as certain injuries to passengers, employees, and other persons on railroad property. Because the reporting requirements and the information needed regarding each category of accident/incident are unique, a different form is used for each category.

FRA hereby informs the regulated community of railroads and the general public that it is revising the instructions for Form FRA F 6180.57, Highway-Rail Grade Crossing Accident/Incident Report, to capture information concerning post-accident toxicological testing for certain human-factor, highway-rail grade crossing accidents and incidents in the narrative block of this form. The newly revised 49 Code of Federal Regulations (CFR) 219.201(a), effective on June 12, 2017, requires post-accident toxicological testing of railroad employees when one or more of five specific requirements are met for certain human-factor categories of highway-rail grade crossing accidents and incidents. See 81 FR 37894 (June 10, 2016).

FRA will begin the process to add a block to Form FRA F 6180.57 to accommodate this requirement. In the interim, if railroads perform drug and alcohol testing on any employee involved in a highway-rail grade crossing accident, FRA is requesting the railroad place the drug and alcohol coding information in Item No. 54, “Narrative Description,” of Form FRA F 6180.57.

In accordance with the requirements of the PRA (44 U.S.C. 3501-3520) and its implementing regulations (5 CFR 1320.5-12), FRA published the two required Federal Register notices for public comment and then transmitted to OMB in March 2017 its renewal submission for this information collection. This submission increased the agency estimate of the annual number of forms completed for Form FRA F 6180.57 by 160 forms from the previously approved submission to OMB (from 2,000 to 2,160 forms). FRA estimated two hours as the average burden time to complete Form FRA F 6180.57, including the time for the information placed in the narrative block of the form. OMB cleared this renewal submission on June 2, 2017, approving a total burden of 46,577 hours and 109,440 responses and extended the previous clearance for another three years. The new expiration date for this information collection is now June 30, 2020. FRA now seeks approval for this change to the Form F 6180.57 instructions while requesting no change to the number of burden hours and burden responses.

Form Number(s): FRA F 6180.39i; 54; 55; 55A; 56; 57; 78; 81; 97; 98; 99;107; 150.

Affected Public: Businesses.

Respondent Universe: 744 railroads.

Frequency of Submission: On occasion.

Reporting Burden:

CFR section | Respondent universe | Total annual responses | Average time per response | Total annual burden hours
225.6-Consolidated Reporting—Request to FRA by parent corporation to treat its commonly controlled carriers as a single railroad carrier for purposes of this part | 744 railroads | 1 request | 40 hours | 40
—Written agreement by parent corporation with FRA on specific subsidiaries included in its railroad system | 744 railroads | 1 agreement | 2 hours | 2
—Notification by parent corporation regarding any change in the subsidiaries making up its railroad system and amended written agreement with FRA | 744 railroads | 1 notification + 1 amended agreement | 60 minutes | 2
225.9—Telephonic Reports of Certain Accidents/Incidents and Other Events | 744 railroads | 2,400 phone reports | 15 minutes | 600
225.11—Reporting of Rail Equipment Accidents/Incidents—Form FRA F 6180.54 | 744 railroads | 1,400 + 500 + 640 forms | 2 hours/1 hour/123 minutes | 4,612
225.12—Rail Equipment Accident/Incident Reports Alleging Human Factor as Cause—Form FRA F 6180.81 | 744 railroads | 952 forms | 15 minutes | 238
—Part I Form FRA F 6180.78 (Notices) | 744 railroads | 800 notices + 4,010 copies | 10 minutes + 3 minutes | 334
—Joint operations | 744 railroads | 100 requests | 20 minutes | 33
—Late identification | 744 railroads | 20 attachment + 20 notices | 15 minutes | 10
—Employee statement supplementing Railroad Accident Report (Part II Form FRA F 6180.78) | Railroad employees | 60 statements | 1.5 hours | 90
—Employee confidential letter | Railroad employees | 10 letters | 2 hours | 20
225.13—Late Reports—Railroad discovery of improperly omitted Report of Accident/Incident | 744 railroads | 25 late reports | 1 hour | 25
—Railroad late/amended Report of Accident/Incident based on employee statement supplementing Railroad Accident Report | 744 railroads | 25 amended reports + 40 copies | 1 hour + 3 minutes | 27
225.18—Railroad narrative report of possible alcohol/drug involvement in accident/incident | 744 railroads | 12 reports | 30 minutes | 6
—Reports required by section 219.209(b) appended to rail equipment accident/incident report | 744 railroads | 5 reports | 30 minutes | 3
225.19—Rail-Highway Grade Crossing Accident/Incident Report—Form FRA F 6180.57 | 744 railroads | 1,900 + 260 forms | 2 hours/1 hour | 4,060
—Death, Injury, or Occupational Illness (Form FRA F 6180.55a) | 744 railroads | 9,578 + 454 + 345 forms | 60 min./60 min 195 min. | 11,1153
225.21—Railroad Injury and Illness Summary: Form FRA F 6180.55 | 744 railroads | 8,928 forms | 10 minutes | 1,488
225.21—Annual Railroad Report of Employee Hours and Casualties, By State—Form FRA F 6180.56 | 744 railroads | 744 forms | 15 minutes | 186
225.21/25—Railroad Employee Injury and/or Illness Record—Form FRA F 6180.98 | 744 railroads | 13,700 forms | 60 minutes | 13,700
—Copies of forms to employees | 744 railroads | 411 form copies | 14
225.21—Initial Rail Equipment Accident/Incident Record—Form FRA F 6180.97 | 744 railroads | 11,870 forms | 30 minutes | 5,935
—Completion of Form FRA F 6180.97 because of rail equipment involvement | 744 railroads | 1 form | 30 minutes | 1
225.21—Alternative Record for Illnesses Claimed to Be Work Related—Form FRA F 6180.107 | 744 railroads | 300 forms | 75 minutes | 375
225.21—Highway User Statement—Railroad cover letter and Form FRA F 6180.150 sent out to potentially injured travelers involved in a highway-rail grade crossing accident/incident | 744 railroads | 1,035 letters/forms | 50 minutes | 863
—Form FRA F 6180.150 completed by highway user and sent back to railroad | 950 Injured Individuals | 725 forms | 45 minutes | 544
225.25(h)—Posting of Monthly Summary | 744 railroads | 8,928 lists | 5 minutes | 744
225.27—Retention of Records | 744 railroads | 13,700 records | 2 minutes | 457
—Record of Form FRA F 6180.107 | 744 railroads | 300 records | 10
—Record of Monthly Lists | 744 railroads | 8,928 records | 2 minutes | 298
—Record of Form FRA F 6180.97 | 744 railroads | 11,760 records | 2 minutes | 392
—Record of Employee Human Factor Attachments | 744 railroads | 2 minutes | 58
225.33—Internal Control Plans—Amendments | 744 railroads | 10 amendment | 6 hours | 60
225.35—Access to Records and Reports | 15 railroads | 200 lists | 20 minutes | 67
225.37—Optical Media Transfer of Reports, Updates, and Amendments | 8 railroads | 200 transfers | 3 minutes | 10
—Electronic Submission of Reports, Updates, and Amendments | 744 railroads | 2,400 submissions | 3 minutes | 120

Total Responses: 109,440.

Estimated Total Annual Burden: 46,577 hours.

Status: Extension of a currently approved information collection.

Under 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Brett A. Jortland,
Acting Deputy Chief Counsel.

[FR Doc. 2017-26625 Filed 12-8-17; 8:45 am]

BILLING CODE 4910-06-P